DEPARTMENT OF COMMERCE

National Oceanic and Atmospheric Administration

RIN 0648-XF439

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the: Scientific and Statistical Committee (SSC) Selection Committee (Closed Session); Advisory Panel Selection Committee (Partially Closed); Southeast Data, Assessment and Review (SEDAR) Committee (Partially Closed); Spiny Lobster Committee; Highly Migratory Species Committee, Law Enforcement Committee (Partially Closed); Habitat Protection and Ecosystem-Based Management Committee; Dolphin Wahoo Committee; Snapper Grouper Committee; Citizen Science Committee (Partially Closed); Mackerel Cobia Committee; Data Collection Committee; and Executive Finance Committee. There will also be a Workshop for Improving Survival of Released Fish during the meeting week and a meeting of the full Council. The Council will take action as necessary. The Council will also hold a formal public comment session.

DATES: The Council meeting will be held from 8:30 a.m. on Monday, June 12, 2017 until 1 p.m. on Friday, June 16, 2017.

ADDRESSES: Meeting address: The meetings will be held at the Sawgrass Marriott, 1000 PGA Tour Blvd., Ponte Vedra Beach, FL; phone: (800) 457-4653 or (904) 285-7777; fax: (904) 285-0906.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net. Meeting information is available from the Council's Web site at: http://safmc.net/meetings/council-meetings/.

SUPPLEMENTARY INFORMATION: Public comment: Written comments may be directed to Gregg Waugh, Executive Director, South Atlantic Fishery Management Council (see Council address) or electronically via the Council's Web site at http://safmc.net/meetings-documents/june-2017-meeting-details/. The public comment form is open for use when the briefing book is posted to the Web site on the Friday, two weeks prior to the Council meeting (5/26/17). Comments received by close of business the Monday before the meeting (6/5/17) will be compiled, posted to the Web site as part of the meeting materials, and included in the administrative record; please use the Council's online form available from the Web site. For written comments received after the Monday before the meeting (after 6/5/17), individuals submitting a comment must use the Council's online form available from the Web site. Comments will automatically be posted to the Web site and available for Council consideration. Comments received prior to noon on Thursday, June 15, 2017 will be a part of the meeting administrative record. The items of discussion in the individual meeting agendas are as follows:

Scientific and Statistical Committee (SSC) Selection Committee (Closed Session), Monday, June 12, 2017, 8:30 a.m. Until 9:30 a.m.

1. The Committee will review applications for appointments to the SSC and provide recommendations.

AP Selection Committee, Monday, June 12, 2017, 9:30 a.m. Until 10:30 a.m. (Partially Closed Session)

Closed Session

1. The Committee will review applicants to the Citizen Science Advisory Panel Pool and provide recommendations.

2. The Committee will discuss the current structure and function of the Cobia Sub-panel of the Mackerel Cobia Advisory Panel, discuss options for an open Cobia Sub-panel seat, and discuss a petition sent to Council members concerning a Cobia Sub-panel member.

Open Session

3. The Committee will discuss the proposed process for future appointments to the Citizen Science Advisory Panel (AP) Pool and SEDAR AP Pool and provide recommendations.

SEDAR Committee (Partially Closed Session), Monday, June 12, 2017, 10:30 a.m. until 12 p.m.

Closed Session

1. The Committee will provide recommendations for appointment to upcoming SEDAR assessments.

Open Session

1. The Committee will receive an update on SEDAR projects including the status of on-going projects, schedule for the vermilion snapper stock assessment and Terms of Reference, and take action as necessary.

2. The Committee will also discuss the stock assessment process and schedule with a report from the SEDAR Steering Committee, an update on plans for a joint meeting of the South Atlantic Council and Gulf of Mexico Councils SSCs, and an SSC report relative to future priorities and research track. The Committee will provide recommendations as appropriate.

3. The Committee will receive an overview of NOAA Fisheries' Stock Assessment Improvement Plan (SAIP) Updates, review SSC comments and provide recommendations as appropriate.

Spiny Lobster Committee, Monday, June 12, 2017, 1:30 p.m. Until 2:30 p.m.

1. The Committee will receive an update on the status of catches versus annual catch limits (ACLs) for spiny lobster, review Spiny Lobster Regulatory Amendment 4 addressing management parameters including Acceptable Biological Catch (ABC) and ACLs, and the use of traps to recreationally harvest spiny lobster. The Committee will provide recommendations for approving the amendment for submission to the Secretary of Commerce for review.

2. The Committee will also receive updates on measures to align federal regulations with Florida Fish and Wildlife Commission regulations for spiny lobster.

Highly Migratory Species (HMS) Committee, Monday, June 12, 2017, 2:30 p.m. Until 3:30 p.m.

1. The Committee will review a white paper on HMS general category permit holders' compliance with U.S. Coast Guard commercial vessel safety requirements and receive an overview of shark feeding activities. The Committee will take action as appropriate.

Workshop on Improving Survival of Released Fish—Monday, June 12, 2017, 3:30 p.m. Until 5:30 p.m.

Council staff will provide an introduction to the problem of focusing on discard mortality rates used in stock assessments and the number of fish estimated to be discarded dead. The Council will then receive presentations on best fishing practices being used to reduce discard mortality including the use of descending devices, venting tools, and outreach efforts.

Law Enforcement Committee (Partially Closed), Tuesday, June 13, 2017, 8 a.m. Until 9:30 a.m.

Closed Session

1. The Committee will discuss and recommend an appointment for the Council's 2016 Law Enforcement Officer of the Year Award.

Open Session

1. The Committee will receive a report from the Law Enforcement Advisory Panel, and discuss the utility of operator cards and enforcement of offloading and closure timing for the commercial sector.

2. The Committee will discuss how non-reporting could result in suspension of a permit per the Magnuson-Stevens Conservation and Management Act and also discuss agenda items for its next meeting. The Committee will provide guidance to staff.

Habitat Protection and Ecosystem-Based Management Committee, Tuesday, June 13, 2017, 9:30 a.m. Until 12 p.m.

1. The Committee will receive a report from the Habitat Protection and Ecosystem-Based Management Advisory Panel.

2. The Committee will review and approve the Council's Essential Fish Habitat Policy Statement on Artificial Reefs and the core Fishery Ecosystem Plan II sections.

3. The Committee will discuss the Habitat and Ecosystem Tools and Model Development, receive a presentation on International Sargassum Conservation, and an update on Council actions pertaining to habitat and provide recommendations as appropriate.

Dolphin Wahoo Committee, Tuesday, June 13, 2017, 1:30 p.m. Until 2:30 p.m.

1. The Committee will receive updates from NOAA Fisheries on commercial catches versus quota for dolphin and wahoo, receive a report from the Dolphin Wahoo Advisory Panel, from the SSC and provide guidance to staff.

Snapper Grouper Committee, Tuesday, June 13, 2017, 2:30 p.m. Until 5:30 p.m. and Wednesday, June 14, 2017 From 8 a.m. Until 4:30 p.m.

1. The Committee will receive updates from NOAA Fisheries on commercial catches versus quotas for species under ACLs and the status of amendments under formal Secretarial review.

2. The Committee will receive a report from the Snapper Grouper Advisory Panel and an update on the Southeast Reef Fish Survey (SERFS).

3. The Committee will receive an overview of Vision Blueprint Regulatory Amendment 26 addressing recreational management actions and alternatives and Vision Blueprint Regulatory Amendment 27 addressing commercial management actions and alternatives, as identified in the 2016-2020 Vision Blueprint for the Snapper Grouper Fishery. The Committee will modify the documents as necessary, provide guidance to staff and is scheduled to approve the amendments for public hearings.

4. The Committee will receive a report from NOAA Fisheries' Southeast Fisheries Science Center on 2016 red snapper landings and discard estimates and the status of the 2017 red snapper season for federal waters in the South Atlantic. The Committee will also receive a report from the SSC and an update on the joint Council and Snook & Gamefish Foundation reporting app project.

5. The Committee will receive an overview of management options in Amendment 43 to the Snapper Grouper Fishery Management Plan addressing red snapper management and recreational reporting requirements, discuss, and provide direction to staff.

6. The Committee will review a white paper on limiting entry for Federal For-Hire (Charter) Permits, discuss and provide direction to staff.

7. The Committee will receive an update on the status of the Snapper Grouper Socio-economic Characterization/Portfolio analysis for the snapper grouper fishery.

8. The Committee will receive a presentation from NOAA Fisheries on the stock assessment for red grouper, review SSC comments and provide guidance as appropriate.

9. The Committee will receive a report from the SSC relative to golden tilefish, receive an update on the SEDAR Steering Committee actions, review a background document on golden tilefish management and provide recommendations regarding the develop of an interim rule and any other guidance.

10. The Committee will receive an update on the Acceptable Biological Catch (ABC) Control Rule, receive a report from the SSC relative to the ABC Control Rule, and provide guidance to staff.

11. The Committee will receive an update on the review of the Wreckfish Individual Transferable Quota (ITQ) program, discuss background and timing, and provide guidance to staff.

Formal Public Comment, Wednesday, June 14, 2017, 4:30 p.m.

Public comment will be accepted on items on the Council agenda. Comment will be accepted first on items before the Council for Secretarial review and public hearings: Formal Review—Spiny Lobster Regulatory Amendment 4 and Public Hearings—Visioning Regulatory Amendment 26 (recreational) and Visioning Regulatory Amendment 27 (commercial). The Council Chair, based on the number of individuals wishing to comment, will determine the amount of time provided to each commenter.

Citizen Science Committee (Partially Closed), Thursday, June 15, 2017, 8 a.m. Until 9:30 a.m.

Closed Session

1. The Committee will make recommendations for appointments to the Citizen Science Action Teams.

Open Session

1. The Committee will receive an update on the Citizen Science Program and Terms of Reference, review and take action as necessary.

Mackerel Cobia Committee, Thursday, June 15, 2017, 9:30 a.m. Until 11a.m.

1. The Committee will receive status updates from NOAA Fisheries on commercial catches versus quotas for species under ACLs and amendments currently under Secretarial review.

2. The Committee will receive a meeting report from the Mackerel Cobia Advisory Panel and Cobia Sub-Panel, discuss emergency action for Atlantic cobia, receive an update on the status of the Atlantic States Marine Fisheries Commission's Interstate Cobia Plan, state reports on Atlantic cobia for 2017, discuss these items and take action as appropriate.

3. The Committee will consider a Framework to adjust Atlantic King Mackerel Trip Limits, discuss using a common unit for tracking Coastal Migratory Pelagic species, and take action as necessary.

Data Collection Committee, Thursday, June 15, 2017, 11 a.m. Until 12 p.m.

1. The Committee will receive reports and updates on the following: For-Hire Electronic Reporting Amendment, Bycatch Amendment, the Joint Council and Atlantic Coastal Cooperative Statistics Program (ACCSP) For-Hire Electronic Reporting Pilot Project, the draft Headboat Annual Report, and the South Atlantic Research Plan. The Committee will review and take action as necessary.

Executive/Finance Committee, Thursday, June 15, 2017, 1:30 p.m. Until 3:30 p.m.

1. The Committee will receive a report on the May 2017 Council Coordinating Committee meeting and provide guidance as necessary.

2. The Committee will receive an overview of the Calendar Year 2017 Budget and approve; and review, modify, and approve the Council Follow-up and Work Priorities.

3. The Committee will discuss standards and procedures for participating in Council webinar meetings, review of Exempted Fishing Permits, and document timing for meeting briefing book materials, public comment at advisory panel meetings, and the SSC liaison and role of Council members at SSC meetings. The Committee will provide guidance and take action as appropriate.

4. The Committee will discuss options for an advisory panel/workgroup for the System Management Plan for the Council's managed areas and take action as necessary.

5. The Committee will receive an overview of the Marine Recreational Information Program (MRIP) 5-Year Strategic Plan and provide guidance as necessary.

Council Session: Thursday, June 15, 2017, 3:30 p.m. Until 5:30 p.m. and Friday, June 16, 2017, 8 a.m. Until 1 p.m. (Partially Closed Session)

The Full Council will convene beginning on Thursday afternoon with a Call to Order, announcements and introductions, presentations, and approval of the March 2017 meeting minutes.

The Council will receive a Legal Briefing on Litigation from NOAA General Counsel (if needed) during Closed Session. The Council will receive a report from the Executive Director. The Council will also receive reports from NOAA Fisheries on the status of commercial and recreational catches versus ACLs for species not covered during an earlier committee meeting, Protected Resources updates, and the status of Bycatch Collection Programs. The Council will review any Exempted Fishing Permits received by NOAA Fisheries, receive a report on the Workshop to Improve Survival of Released Fish and take action as necessary.

The Council will receive a report from the Spiny Lobster Committee, approve/disapprove Spiny Lobster Regulatory Amendment 4 for Secretarial review, consider other Committee recommendations, and take action as appropriate.

The Council will receive a report from the Snapper Grouper Committee and approve/disapprove Visioning Amendment 26 (recreational) and Visioning Amendment 27 (commercial) for public hearings.

The Council will continue to receive committee reports from the Mackerel Cobia, Dolphin Wahoo, Law Enforcement, Advisory Panel Selection, SSC Selection, SEDAR, Data Collection, Habitat and Ecosystem-Based Management, HMS, Citizen Science, and Executive Finance Committees, review recommendations, and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: May 18, 2017.
Tracey L. Thompson,
Acting Deputy Director, Office of Sustainable Fisheries, National Marine Fisheries Service.

[FR Doc. 2017-10489 Filed 5-22-17; 8:45 am]

BILLING CODE 3510-22-P